DEPARTMENT OF HOMELAND SECURITY

Federal Emergency Management Agency

44 CFR Part 65

[Docket ID FEMA-2010-0003; Internal Agency Docket No. FEMA-B-1165]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama: Calhoun | City of Oxford (10-04-2692P) | October 22, 2010, October 29, 2010, The Anniston Star | The Honorable Leon Smith, Mayor, City of Oxford, P.O. Box 3383, Oxford, AL 36203 | February 28, 2011 | 010023
Alabama: Calhoun | Unincorporated areas of Calhoun County (10-04-2692P) | October 22, 2010, October 29, 2010, The Anniston Star | Mr. Robert W. Downing, Calhoun County Commissioner, 1702 Noble Street, Suite 103, Anniston, AL 36201 | February 28, 2011 | 010013
Arizona: Maricopa | Unincorporated areas of Maricopa County (10-09-1720P) | September 30, 2010, October 7, 2010, Arizona Business Gazette | Mr. Don Stapley, Chairman, Maricopa County Board of Supervisors, 301 West Jefferson Street, Phoenix, AZ 85003 | February 4, 2011 | 040037
Arizona: Yavapai | City of Prescott (10-09-0220P) | October 8, 2010, October 15, 2010, The Daily Courier | The Honorable Marlin Kuykendall, Mayor, City of Prescott, 201 South Cortez Street, Prescott, AZ 86303 | February 14, 2011 | 040098
Arizona: Yavapai | Unincorporated areas of Yavapai County (10-09-0220P) | October 8, 2010, October 15, 2010, The Daily Courier | Mr. Chip Davis, Chairman, Yavapai County Board of Supervisors, 10 South 6th Street, Cottonwood, AZ 86326 | February 14, 2011 | 040093
California: Placer | City of Rocklin 09-09-2897P) | October 7, 2010, October 14, 2010, The Placer Herald | The Honorable Scott Yuill, Mayor, City of Rocklin, 3970 Rocklin Road, Rocklin, CA 95677 | February 11, 2011 | 060242
California: San Diego | Unincorporated areas of San Diego County (10-09-2166P) | October 22, 2010, October 29, 2010, San Diego Transcript | Ms. Pam Slater-Price, Chairwoman, San Diego County Board of Supervisors, 1600 Pacific Highway, Room 335, San Diego, CA 92101 | November 18, 2010 | 060284
California: Santa Clara | City of Milpitas (10-09-1254P) | October 12, 2010, October 19, 2010, San Jose Mercury News | The Honorable Robert Livengood, Mayor, City of Milpitas, 455 East Calaveras Boulevard, Milpitas, CA 95035 | September 30, 2010 | 060344
California: Shasta | City of Anderson (10-09-1399P) | October 13, 2010, October 20, 2010, Anderson Valley Post | The Honorable Norma Comnick, Mayor, City of Anderson, 1887 Howard Street, Anderson, CA 96007 | September 30, 2010 | 060359
California: Shasta | Unincorporated areas of Shasta County (10-09-1399P) | October 13, 2010, October 20, 2010, Anderson Valley Post | Mr. David A. Kehoe, Chairman, Shasta County Board of Supervisors, 1450 Court Street, Suite 308B, Redding, CA 96001 | September 30, 2010 | 060358
Colorado: Arapahoe | City of Aurora (10-08-0276P) | September 9, 2010, September 16, 2010, Aurora Sentinel | The Honorable Ed Tauer, Mayor, City of Aurora, 15151 East Alameda Parkway, Aurora, CO 80012 | January 14, 2011 | 080002
Colorado: Douglas | Town of Parker (10-08-0768P) | October 7, 2010, October 14, 2010, Douglas County News-Press | The Honorable David Casiano, Mayor, Town of Parker, 20120 East Mainstreet, Parker, CO 80138 | October 29, 2010 | 080310
Colorado: Douglas | Unincorporated areas of Douglas County (10-08-0768P) | October 7, 2010, October 14, 2010, Douglas County News-Press | Mr. Jack Hilbert, Chairman, Douglas County Board of Commissioners, 100 3rd Street, Castle Rock, CO 80104 | October 29, 2010 | 080049
Florida: Charlotte | Unincorporated areas of Charlotte County (10-04-4920P) | October 22, 2010, October 29, 2010, Charlotte Sun | Mr. Bob Starr, Chairman, Charlotte County Board of Commissioners, 18500 Murdock Circle, Port Charlotte, FL 33948 | October 15, 2010 | 120061
Florida: Miami-Dade | City of Miami (10-08-5593P) | October 12, 2010, October 19, 2010, Miami Daily Business Review | The Honorable Tomás P. Regalado, Mayor, City of Miami, 3500 Pan American Drive, Miami, FL 33133 | September 30, 2010 | 120650
Florida: Orange | City of Orlando (10-04-0788P) | August 12, 2010, August 19, 2010, Orlando Weekly | The Honorable Buddy Dyer, Mayor, City of Orlando, P.O. Box 4990, Orlando, FL 32802 | December 17, 2010 | 120186
Georgia: Barrow | Unincorporated areas of Barrow County (10-04-4322P) | October 20, 2010, October 27, 2010, The Barrow County News | Mr. Daniel Yearwood, Jr., Chairman, Barrow County Board of Commissioners, 233 East Broad Street, Winder, GA 30680 | February 24, 2011 | 130497
Kentucky: Hopkins | City of Madisonville (10-04-3232P) | September 10, 2010, September 17, 2010, The Messenger | The Honorable William Cox, Jr., Mayor, City of Madisonville, 67 North Main Street, Madisonville, KY 42431 | January 17, 2011 | 210115
Kentucky: Hopkins | Unincorporated areas of Hopkins County (10-04-3232P) | September 10, 2010, September 17, 2010, The Messenger | The Honorable Donald E. Carroll, Hopkins County Judge, 56 North Main Street, Madisonville, KY 42431 | January 17, 2011 | 210112
South Carolina: Dorchester | Unincorporated areas of Dorchester County (10-04-6791P) | October 8, 2010, October 15, 2010, The Post and Courier | Mr. Jamie Feltner, Chairman, Dorchester County Council, 500 North Main Street, Suite 2, Summerville, SC 29483 | February 14, 2011 | 450068
South Dakota: Minnehaha | City of Hartford (10-08-0469P) | October 8, 2010, October 15, 2010, Argus Leader | The Honorable Paul Zimmer, Mayor, City of Hartford, 125 North Main Avenue, Hartford, SD 57033 | February 14, 2011 | 460180
South Dakota: Minnehaha | Unincorporated areas of Minnehaha County (10-08-0469P) | October 8, 2010, October 15, 2010, Argus Leader | Ms. Anne Hajek, Chair, Minnehaha County Board of Commissioners, P.O. Box 1779, Sioux Falls, SD 57101 | February 14, 2011 | 460057

(Catalog of Federal Domestic Assistance No. 97.022, “Flood Insurance.”)

Dated: December 3, 2010.
Sandra K. Knight,
Deputy Federal Insurance and Mitigation Administrator, Mitigation, Department of Homeland Security, Federal Emergency Management Agency.

[FR Doc. 2010-31508 Filed 12-15-10; 8:45 am]

BILLING CODE 9110-12-P